DEPARTMENT OF HEALTH AND HUMAN SERVICES

Administration for Children and Families

[Program Announcement No. OCS 2001-07]

Family Violence Prevention and Services Program, National Resource Center on Domestic Violence and Four Special Issue Resource Centers; Availability of Funds for Fiscal Year 2001 and Request for Applications

AGENCY: Office of Community Services (OCS), ACF, DHHS.

ACTION: Notice; correction.

SUMMARY: This notice corrects the announcement of Family Violence Prevention and Services program, National Resource Center on Domestic Violence and Four Special Issue Resource Centers; Availability of funds for Fiscal Year 2001 and Request for Applications published on June 12, 2001 (66 FR 31657).

FOR FURTHER INFORMATION CONTACT: Administration for Children and Families, Office of Community Services, Division of State Assistance, 370 L'Enfant Promenade, SW, Washington DC 20447. Telephone William Riley, (202) 401-5529, James Gray, (202) 401-5705, Sunni Knight (202) 401-5319 or Shena Russell, (202) 205-5932.

Correction

In the Federal Register issued June 12, 2001 (66 FR 34657), make the following correction. On page 31661 in the first column, remove the paragraph under Budget Period and Federal Share, and replace with:

“The total FY 2001 Federal share for the four cooperative agreements in support of four Special Issue Resource Centers (SIRCs) is $4,351,075 for the first 12-month budget period, subject to the availability of funds.”

(Catalog of Federal Domestic Assistance number 93.592, Family Violence Prevention and Services)
Dated: July 7, 2001.
Clarence H. Carter,
Director, Office of Community Services.

[FR Doc. 01-17441 Filed 7-11-01; 8:45 am]

BILLING CODE 4184-01-M